DEPARTMENT OF JUSTICE

Bureau of Alcohol, Tobacco, Firearms, and Explosives

[Docket No. 2020R-10W]

Objective Factors for Classifying Weapons With “Stabilizing Braces”; Withdrawal of Guidance

AGENCY: Bureau of Alcohol, Tobacco, Firearms, and Explosives, Department of Justice.

ACTION: Notice; withdrawal.

SUMMARY: The Bureau of Alcohol, Tobacco, Firearms, and Explosives (“ATF”) is announcing the withdrawal of a notice and request for comments entitled “Objective Factors for Classifying Weapons with `Stabilizing Braces',” that was published on December 18, 2020.

DATES: The withdrawal is effective December 31, 2020.

ADDRESSES: This Notice also will be made available on the ATF website (www.atf.gov).

FOR FURTHER INFORMATION CONTACT: Andrew Lange, Office of Regulatory Affairs, Enforcement Programs and Services, Bureau of Alcohol, Tobacco, Firearms, and Explosives, U.S. Department of Justice, 99 New York Ave. NE, Mail Stop 6N-518, Washington, DC 20226; telephone: (202) 648-7070 (this is not a toll-free number).

SUPPLEMENTARY INFORMATION: Upon further consultation with the Department of Justice and the Office of the Deputy Attorney General, ATF is withdrawing, pending further Department of Justice review, the notice and request for comments entitled “Objective Factors for Classifying Weapons with `Stabilizing Braces',” that was published on December 18, 2020. 85 FR 82516. As explained in the notice, the proposed guidance was not a regulation. The notice informed and invited comment from the industry and public on a proposed guidance prior to issuing a final guidance document.

The withdrawal of the guidance does not change any law, regulation, or other legally binding requirement.

Marvin G. Richardson,
Associate Deputy Director.

[FR Doc. 2020-28930 Filed 12-30-20; 8:45 am]

BILLING CODE 4410-FY-P